SMALL BUSINESS ADMINISTRATION

[Disaster Declaration #12826 and #12827]

Maine Disaster Number ME-00029

AGENCY: U.S. Small Business Administration.

ACTION: Amendment 1.

SUMMARY: This is an amendment of the Presidential declaration of a major disaster for Public Assistance Only for the State of Maine (FEMA-4032-DR), dated 09/13/2011.

Incident: Tropical Storm Irene.

Incident Period: 08/27/2011 through 08/29/2011.

Effective Date: 09/23/2011.

Physical Loan Application Deadline Date: 11/14/2011.

Economic Injury (EIDL) Loan Application Deadline Date: 06/13/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Maine, dated 09/13/2011, is hereby amended to include the following areas as adversely affected by the disaster.

Primary Counties: Lincoln.

All other information in the original declaration remains unchanged.

(Catalog of Federal Domestic Assistance Numbers 59002 and 59008)

James E. Rivera,
Associate Administrator for Disaster Assistance.

[FR Doc. 2011-25347 Filed 9-30-11; 8:45 am]

BILLING CODE 8025-01-P